DEPARTMENT OF HEALTH AND HUMAN SERVICES

National Institutes of Health

National Human Genome Research Institute; Amended Notice of Meeting

Notice is hereby given of a change in the meeting of the National Human Genome Research Institute Special Emphasis Panel, November 29, 2011, 8 a.m. to November 29, 2011, 5 p.m., Residence Inn Bethesda, 7335 Wisconsin Avenue, Bethesda, MD 20814 which was published in the Federal Register on October 14, 2011, 76FR63932.

The meeting notice is amended to change the meeting end date from November 29, 2011 to November 30, 2011. The meeting is closed to the public.

Dated: October 18, 2011.
Jennifer S. Spaeth,
Director, Office of Federal Advisory Committee Policy.

[FR Doc. 2011-27415 Filed 10-21-11; 8:45 am]

BILLING CODE 4140-01-P